DEPARTMENT OF AGRICULTURE

Food Safety and Inspection Service

[Docket No. FSIS-2006-0011]

Harvard Risk Assessment of Bovine Spongiform Encephalopathy (BSE) Update; Notice of Availability and Technical Meeting

AGENCY: Food Safety and Inspection Service, USDA.

ACTION: Notice of availability and announcement of technical meeting.

SUMMARY: The Food Safety and Inspection Service (FSIS) is announcing the availability of an updated risk assessment model and report for BSE. The previous risk assessment, released in October 2003, was revised to incorporate information available through December 2003, including the discovery of a BSE-infected cow in Washington State. The revised risk assessment model evaluates the impact of measures implemented after the discovery of the BSE-positive cow and recommendations made by an international BSE panel. FSIS will also hold a technical meeting to discuss the updated risk assessment model and report.

DATES: The public meeting will be held on July 25, 2006, from 1 p.m. to 4 p.m. Comments on the updated Harvard Risk Assessment must be received by August 11, 2006.

ADDRESSES: The public meeting will take place in the Jefferson Auditorium of the South Building of the U.S. Department of Agriculture, 1400 Independence Avenue, SW., Washington, DC, 20250. Meeting attendees must enter the South Building at Wing 1, 14th and Independence Avenue. FSIS will finalize an agenda on or before the meeting date and will post it on the FSIS Internet Web page http://www.fsis.usda.gov/News/Meetings_&_Events/. The updated risk assessment is available for viewing by the public in the FSIS docket room and on the FSIS Web site at: http://www.fsis.usda.gov/Science/Risk_Assessments/index.asp.

All comments and the official transcript of the meeting will be available for viewing by the public in the FSIS docket room and on the FSIS Web site when they become available.

Comments on the updated Harvard Risk Assessment may be submitted by any of the following methods:

• Federal eRulemaking Portal: This Web site provides the ability to type short comments directly into the comment field on this Web page or attach a file for lengthier comments. Go to http://www.regulations.gov and, in the “Search for Open Regulations” box, select “Food Safety and Inspection Service” from the agency drop-down menu, and then click on “Submit.” In the Docket ID column, select FDMS Docket Number FSIS-2006-0011 to submit or view public comments and to view supporting and related materials available electronically. This docket can be viewed using the “Advanced Search” function in Regulations.gov.

• Mail, including floppy disks or CD-ROM's, and hand- or courier-delivered items: Send to Docket Clerk, U.S. Department of Agriculture, Food Safety and Inspection Service, 300 12th Street, SW., Room 102 Cotton Annex, Washington, DC 20250.

• Electronic mail: fsis.regulationscomments@fsis.usda.gov.

All submissions received by mail and electronic mail must include the Agency name and docket number FSIS-2006-0011. All comments submitted in response to this notice will be available for public inspection in the FSIS Docket Room at the address listed above between 8:30 a.m. and 4:30 p.m., Monday through Friday. The comments also will be posted to the regulations.gov Web site and on the Agency's Web site at: http://www.fsis.usda.gov/regulations_&_policies/2006_Notices_Index/index.asp.

FOR FURTHER INFORMATION CONTACT: Dr. Chuanfa Guo, Senior Risk Analyst, Risk Assessment Division, Office of Public Health Science, 1400 Independence Avenue, SW., Room 344, Aerospace Center, Washington, DC 20250-3700; Telephone (202) 690-0817, e-mail Chuanfa.guo@fsis.usda.gov.

Pre-registration for this meeting is recommended. To pre-register, please contact Diane Jones at (202) 720-9692 or by e-mail at Diane.Jones@fsis.usda.gov. Persons requiring a sign language interpreter or special accommodations should contact Ms. Jones as soon as possible.

SUPPLEMENTARY INFORMATION: In April 1998, USDA entered into a cooperative agreement with the Harvard Center for Risk Analysis (HCRA) of the Harvard School of Public Health and the Center for Computational Epidemiology at Tuskegee University to conduct a comprehensive investigation of the BSE risk in the United States. The report,¹ widely referred to as the Harvard Risk Assessment, was completed in 2001 and released by USDA in December of that year. Following a peer review conducted in 2002, the authors of the risk assessment responded to the peer review comments and submitted a revised risk assessment to USDA in October 2003.²

¹ Harvard Center for Risk Analysis, Harvard School of Public Health, and Center for Computational Epidemiology, College of Veterinary Medicine, Tuskegee University, “Evaluation of the Potential for Bovine Spongiform Encephalopathy in the United States,” http://www.aphis.usda.gov/lpa/issues/bse/risk_assessment/mainreporttext.pdf, 2001.

² Research Triangle Institute, “Review of the Evaluation of the Potential for Bovine Spongiform Encephalopathy in the United States,” accessed online at http://www.aphis.usda.gov/lpa/issues/bse/BSE_Peer_Review.pdf, 2002.

Harvard Center for Risk Analysis, Harvard School of Public Health, “Evaluation of the Potential for Bovine Spongiform Encephalopathy in the United States: Response to Reviewer Comments Submitted by Research Triangle Institute,” http://www.aphis.usda.gov/lpa/issues/bse/ResponsetoComments.pdf,2003.

Harvard Center for Risk Analysis, Harvard School of Public Health, and Center for Computational Epidemiology, College of Veterinary Medicine, Tuskegee University, “Evaluation of the Potential for Bovine Spongiform Encephalopathy in the United States,” http://www.aphis.usda.gov/lpa/issues/bse/madcow.pdf, 2003.

Following confirmation on December 23, 2003, of BSE in a cow in Washington State, both USDA and the Department of Health and Human Service's (HHS's) Food and Drug Administration (FDA) implemented measures to strengthen protections against BSE in the United States. In May 2004, USDA contracted with the HCRA to revise the Harvard Risk Assessment model to reflect information available through December 2003. USDA also contracted with the HCRA to develop a new baseline for the risk assessment model, analyze the effects of the measures implemented by USDA and FDA in response to the confirmation of the BSE case in Washington State, and analyze recommendations made by an international expert BSE panel that was convened at the request of the Secretary of Agriculture to review the actions taken by the United States in response the confirmation of the BSE case in Washington State.

The authors submitted an updated risk assessment to FSIS in June 2005, and a peer review of the updated risk assessment was completed in September 2005. The final updated risk assessment and the revised risk assessment model were submitted following the peer review.

This document announces that FSIS is making the 2005 updated Harvard Risk Assessment available to the public. The Agency will also hold a public technical meeting to provide information on the 2005 updated Harvard Risk Assessment. At this meeting, the developers of the risk assessment model will explain the modifications that have been made to the model and FSIS will present the results of the various risk mitigation scenarios that were analyzed using the updated model.

Additional Public Notification

Public awareness of all segments of rulemaking and policy development is important. Consequently, in an effort to ensure that the public and in particular minorities, women, and persons with disabilities, are aware of this notice, FSIS will announce it on-line through the FSIS Web page located at http://www.fsis.usda.gov/regulations_&_policies/2006_Notices_Index/index.asp.

The Regulations.gov Web site is the central online rulemaking portal of the United States government. It is being offered as a public service to increase participation in the Federal government's regulatory activities. FSIS participates in Regulations.gov and will accept comments on documents published on the site. The site allows visitors to search by keyword or Department or Agency for rulemakings that allow for public comment. Each entry provides a quick link to a comment form so that visitors can type in their comments and submit them to FSIS. The Web site is located at http://www.regulations.gov.

FSIS also will make copies of this Federal Register publication available through the FSIS Constituent Update, which is used to provide information regarding FSIS policies, procedures, regulations, Federal Register notices, FSIS public meetings, recalls, and other types of information that could affect or would be of interest to our constituents and stakeholders. The update is communicated via Listserv, a free e-mail subscription service consisting of industry, trade, and farm groups, consumer interest groups, allied health professionals, scientific professionals, and other individuals who have requested to be included. The update also is available on the FSIS Web page. Through Listserv and the Web page, FSIS is able to provide information to a much broader, more diverse audience.

In addition, FSIS offers an e-mail subscription service which provides automatic and customized access to selected food safety news and information. This service is available at http://www.fsis.usda.gov/news_and_events/email_subscription/. Options range from recalls to export information to regulations, directives and notices. Customers can add or delete subscriptions themselves and have the option to password protect their account.

Barbara J. Masters,
Administrator.

[FR Doc. E6-10928 Filed 7-11-06; 8:45 am]

BILLING CODE 3410-DM-P